ENVIRONMENTAL PROTECTION AGENCY

[FRL-9163-8]

Proposed CERCLA Administrative Cost Recovery Settlement; Great Lakes Container Corporation Superfund Site, Coventry Rhode Island

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past and future response costs concerning the Great Lakes Container Corporation Superfund Site, located in Coventry Rhode Island with the settling parties listed below under the heading “Supplementary Information.” The settlement requires the settling parties to pay $200,000 to the Hazardous Substance Superfund. The settlement also requires the settling parties to perform a removal action to address hazardous substances at the Site, and to pay the Agency all of its oversight and other response costs related to the removal action. The settlement includes a covenant not to sue the settling parties pursuant to Section 106 of CERCLA, 42 U.S.C. 9606, and Section 107(a) of CERCLA, 42 U.S.C. 9607(a). For thirty (30) days following the date of publication of this notice, the Agency will receive written comments relating to the settlement for recovery of response costs (Section XV of the proposed settlement). The Agency will consider all comments received and may modify or withdraw its consent to this cost recovery settlement if comments received disclose facts or considerations which indicate that the settlement is inappropriate, improper, or inadequate. The Agency's response to any comments received will be available for public inspection at the Coventry Public Library, 1672 Flat River Road, Coventry, RI 02816 and at the Environmental Protection Agency—Region I, 5 Post Office Square—Suite 100, Boston, MA 02109-3912.

DATES: Comments must be submitted on or before July 19, 2010.

ADDRESSES: The proposed settlement is available for public inspection at the Environmental Protection Agency—Region I, 5 Post Office Square—Suite 100, Boston, MA 02109-3912. A copy of the proposed settlement may be obtained from Tina Hennessy, Office of Site Remediation and Restoration, Environmental Protection Agency—Region I, 5 Post Office Square—Suite 100 (OSRR02-2), Boston, MA 02109-3912, (617) 918-1216. Comments should reference the Great Lakes Container Corporation Superfund Site, Coventry, Rhode Island and EPA CERCLA Docket No. 01-2009-0010 and should be addressed to Regional Hearing Clerk, Environmental Protection Agency—Region I, 5 Post Office Square—Suite 100 (ORA18-1), Boston, MA 02109-3912.

FOR FURTHER INFORMATION CONTACT: For legal questions, John Hultgren, Office of Environmental Stewardship, Environmental Protection Agency—Region I, 5 Post Office Square—Suite 100 (OES04-2), Boston, MA 02109-3912, (617) 918-1761; for technical questions, Tina Hennessy, Office of Site Remediation and Restoration, Environmental Protection Agency—Region I, 5 Post Office Square—Suite 100 (OSRR02-2), Boston, MA 02109-3912, (617) 918-1216.

SUPPLEMENTARY INFORMATION: The settling parties to this administrative settlement include: Akzo Nobel Coatings, Inc., as successor to Nubrite Chemical Co; Zeneca, Inc. (f/k/a I.C.I. Americas, Inc.); Avnet, Inc.; CNA Holdings, Inc. now known as CNA Holdings LLC (f/k/a American Hoechst); Cooley, Inc.; Development Associates, Inc.; Drake Petroleum Company, Inc. (f/k/a Warren Oil Co.); Exxon Mobil Corporation; Electric Boat Corporation; John H. Collins & Sons Company; John R. Hess & Company (f/k/a John R. Hess & Sons, Inc.); Mallinckrodt, LLC, a Delaware limited liability company (f/k/a Mallinckrodt, Inc., a New York corporation) on behalf of Great Lakes Container Corporation and Kingston Steel Drum; National Grid; Northeast Products Co., Inc.; Shell Oil Company; Greenhill, Inc. (f/k/a Soluol, Inc.); Sunoco, Inc. (R&M); Uniroyal Holding, Inc. (successor to certain limited liabilities of Uniroyal, Inc.); Cytec Industries Inc. (on behalf of American Cyanamid Company); Hubbard Hall, Inc.; Invesys, Inc. on behalf of Elmwood Sensors, Inc.; Chevron Environmental Management Company, for itself and on behalf of Texaco Inc. and Union Oil Company of California; Ross & Roberts; Whittaker Corporation, on behalf of itself and its present and former affiliates, subsidiaries and divisions; BP Products North America, Inc.; Eastern Color & Chemical Company.

Dated: June 3, 2010.
Richard Cavagnero,
Acting Director, Office of Site Remediation and Restoration, EPA Region I.

[FR Doc. 2010-14651 Filed 6-16-10; 8:45 am]

BILLING CODE 6560-50-P